DEPARTMENT OF LABOR

Office of the Secretary

Agency Information Collection Activities; Comment Request; Department of Labor Events Management Platform

AGENCY: United States Department of Labor (DOL-OS).

ACTION: Notice of information collections and request for comments.

SUMMARY: In compliance with the Paperwork Reduction Act of 1995, the DOL is soliciting public comments regarding this OS-sponsored information collection to the Office of Management and Budget (OMB) for review and approval.

DATES: Comments pertaining to this information collection are due on or before January 5, 2021.

ADDRESSES:

Electronic submission: You may submit comments and attachments electronically at http://www.regulations.gov. Follow the online instructions for submitting comments.

Mail submission: 200 Constitution Ave. NW, Room S-5315, Washington, DC 2020.

Comments are invited on: (1) Whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: The DOL Events Management Platform is a shared service that allows a DOL agency to collect registration information in a way that can be tailored to a particular event. As the information needed to register for specific events may vary, this ICR provides a generic format to obtain any required PRA authorization from the OMB. DOL notes that registration requirements for many events do not require PRA clearance, because the information requested is minimal (e.g. information necessary to identify the attendee, address). This information collection, however, is subject to the Paperwork Reduction Act (PRA). A Federal agency generally cannot conduct or sponsor a collection of information and the public is generally not required to respond to an information collection unless the OMB approves it for use and the agency displays a currently valid OMB Control Number. In addition, notwithstanding any other provisions of law, no person shall generally be subject to penalty for failing to comply with a collection of information that does not display a valid OMB Control Number.

The DOL seeks PRA authorization for this information collection for three (3) years. OMB authorization for an Information Collection Review cannot be for more than three (3) years without renewal. The DOL notes that currently approved information collection requirements submitted to the OMB receive a month-to-month extension while they undergo review.

Agency: DOL-OS.

Title of Collection: Department of Labor Events Management Platform.

OMB Control Number: 1290-0002.

Total Estimated Number of Respondents: 1,600.

Total Estimated Number of Responses: 3,200.

Total Estimated Annual Time Burden: 250 hours.

Total Estimated Annual Other Costs Burden: $0.

(Authority: 44 U.S.C. 3506(c)(2)(A))

Dated: November 2, 2020.
Anthony May,
Management and Program Analyst.

[FR Doc. 2020-24657 Filed 11-5-20; 8:45 am]

BILLING CODE 4510-04-P